DEPARTMENT OF TRANSPORTATION

Federal Highway Administration

Environmental Impact Statement: Cook County, IL

AGENCY: Federal Highway Administration (FHWA), DOT.

ACTION: Notice of Intent.

SUMMARY: The FHWA is issuing this Notice of Intent to advise the public that an Environmental Impact Statement (EIS) will be prepared for the Grand Crossing Rail Project, which involves new railroad track work, structural work, grading, and signal improvements to provide a new direct route for Amtrak trains from New Orleans, Louisiana or Carbondale, Illinois into Chicago Union Station, and to provide sufficient mainline capacity to accommodate existing and additional Amtrak trains along with freight traffic in the City of Chicago, Cook County, Illinois.

FOR FURTHER INFORMATION CONTACT: Norman R. Stoner, P.E., Division Administrator, Federal Highway Administration, 3250 Executive Park Drive, Springfield, Illinois 62703, Phone: (217) 492-4600. Steve McClarty, Acting Bureau Chief, Bureau of Railroads, Illinois Department of Transportation, 100 W. Randolph Street, Suite 6-600, Chicago, Illinois 60601-3229, Phone: (312) 793-3940.

SUPPLEMENTARY INFORMATION: The FHWA, in cooperation with the Illinois Department of Transportation, Bureau of Railroads, will prepare an EIS on a proposal to construct a direct rail connection between the Canadian National (CN) and Norfolk Southern (NS) Chicago Line to provide a new, more direct route to Chicago's Union Station for Amtrak trains coming from New Orleans, Louisiana, and Carbondale, Illinois. The proposed project is an element of the overall Chicago Region Environmental and Transportation Efficiency Program (CREATE), a joint effort of the Illinois Department of Transportation, the Chicago Department of Transportation, and the Association of American Railroads to restructure, modernize, and expand freight and passenger rail facilities and highway grade separations in the Chicago metropolitan area. Alternative track configurations will be considered and refined. The no-action alternative will also be evaluated. A preferred alternative and associated potential impacts will be presented at a public hearing. Preliminary measures to minimize harm, construction cost estimates, and estimated right-of-way and relocation requirements will also be developed.

The proposed action will reduce travel time on the Amtrak's Illini-Saluki and City of New Orleans trains by eliminating a time-consuming back-up move into Union Station that these trains currently perform due to the existing track configuration. In addition, the proposed action will provide additional rail capacity along the existing rail corridor(s) that would be used for the new route. It will also allow for the space currently occupied by the St. Charles Airline tracks and the CN mainline tracks along the Lake Michigan lakefront north of Grand Crossing to be used to serve future public needs.

The project is located principally on existing railroad rights-of-way owned by CN, NS, and the Metra commuter railroad. The project area—bounded by 117th Street on the south, Lake Michigan on the east, Pershing Road on the north, and Halsted Street on the west—consists of urban residential and industrial land uses; no significant natural resource impacts are anticipated. Potential impacts may include residential and commercial relocations, effects on community cohesion and low-income and minority populations, economic impacts, and impacts to publicly owned parks, properties potentially eligible for listing on the National Register of Historic Places, special waste sites, and public facilities and services. There is also the potential for noise and vibration, and air quality impacts.

In an attempt to address the full range of issues related to this proposed action and identify all substantive issues, this project is being developed using the principles of Context Sensitive Solutions per the Illinois Department of Transportation's Policies and Procedures. A Stakeholder Involvement Plan (SIP) will be developed that will detail the public involvement activities that will be conducted as part of this study and will address the Coordination Plan requirements of 23 U.S.C. 139(g) within the context of the National Environmental Policy Act (NEPA) process. Under the SIP, an interdisciplinary Project Study Group will be formed to develop the project, and a Community Advisory Group will be formed to provide input to the study process. As part of the EIS process, a scoping meeting for obtaining input from resource agencies will be held in June 2011 and invitations will be sent to the resource agencies. Public informational meetings, focus meetings with stakeholders, a public hearing, newsletters, a project Web site, and interest group meetings will provide additional opportunities for public involvement. The project's Draft EIS will be available for public and agency review prior to the public hearing. The time and location of the public hearing will be announced in local newspapers. Comments or questions concerning this proposed action and the Draft EIS should be directed to FHWA or the Illinois Department of Transportation at the addresses provided above.

(Catalog of Federal Domestic Assistance Program Number 20.205, Highway Planning and Construction. The regulations implementing Executive Order 12372 regarding intergovernmental consultation on Federal programs and activities apply to this program.)

Issued on: March 21, 2011.
Jon-Paul Kohler,
Planning and Program Development Manager, Springfield, Illinois.

[FR Doc. 2011-7203 Filed 3-25-11; 8:45 am]

BILLING CODE 4910-22-P